DEPARTMENT OF DEFENSE

Office of the Secretary

[Docket ID: DoD-2015-OS-0098]

Proposed Collection; Comment Request

AGENCY: Office of the Under Secretary of Defense for Personnel and Readiness/National Security Education Program, DoD.

ACTION: Notice.

SUMMARY: In compliance with the Paperwork Reduction Act of 1995, the Office of the Under Secretary of Defense for Personnel and Readiness/National Security Education Program announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by December 15, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Office of the Under Secretary of Defense for Personnel and Readiness/National Security Education Program, Attn: Dr. Michael Nugent, P.O. Box 12221, Arlington, VA 22209-2221, or call at (703) 696-5673.

SUPPLEMENTARY INFORMATION:

Title; Associated Form; and OMB Number: National Language Service Corps; DD Forms 2932, 2933, and 2934; OMB Control Number 0704-0449.

Needs and Uses: The information collection requirement is necessary to identify individuals with language and special skills who potentially qualify for employment or service opportunities in the public section during periods of national need or emergency.

Affected Public: Individuals or households.

Annual Burden Hours: 167 hours.

Number of Respondents: 1,500.

Responses per Respondent: 3.

Annual Responses: 4,500.

Average Burden per Response: 16.24 minutes.

Frequency: On occasion.

The DD Form 2932, National Language Service Corps (NLSC) Pilot Application, is the initial document used to collect information from members of the public. The NLSC Pilot Application form contains a brief set of screening questions and provides background data on where the applicant learned the foreign language and whether the applicant has used the language professionally. Applicants fill this out for basic information (age, citizenship, Foreign Language), and if they meet eligibility criteria, they proceed to the supplemental documents. Members are required to renew their DD Form 2932 information every four years. Renewing applicants are in addition to those initially applying.

The supplemental documents are used to determine eligibility for membership in the NLSC. The DD Form 2934, National Language Service Corps (NLSC) Global Language Self-Assessment, provides an overall assessment of the applicant's foreign language ability. The DD Form 2933, National Language Service Corps (NLSC) Pilot Detailed Skills Self-Assessment, is a detailed description of the applicant's skills with respect to specific foreign language tasks. These two supplemental documents are used in conjunction for the certification of language skills for entry into the NLSC and quality assurance of certification.

The information collected in the application and the supplemental documents is used solely by the NLSC.

Dated: October 9, 2015.
Aaron Siegel,
Alternate OSD Federal Register Liaison Officer, Department of Defense.

[FR Doc. 2015-26338 Filed 10-15-15; 8:45 am]

BILLING CODE 5001-06-P